GENERAL SERVICES ADMINISTRATION

Federal Travel Regulation (FTR); Relocation Allowances—Data Dictionary and Collection Process for Transaction-Level Relocation Data; Notice of a Proposed Bulletin and Proposed Rule

AGENCY: Office of Governmentwide Policy, General Services Administration (GSA).

ACTION: Notice of a proposed bulletin and a proposed rule.

SUMMARY: This notice announces that GSA is posting online a proposed FTR bulletin on collection of relocation data, concurrent with a proposed rule. The proposed FTR Bulletin 10-XX provides the proposed data dictionary for both of these data collection processes. Proposed FTR Bulletin 10-XX may be viewed on GSA's Web site, at http://www.gsa.gov/relopolicy, and the proposed rule appears elsewhere in this issue of the Federal Register. By this Notice, GSA is seeking comment on the proposed bulletin. Among the questions for which GSA is seeking comment are:

• Have we identified the right data elements to allow managers to identify and modulate useful adjustments in policy and to identify and support proposed regulatory and legislative changes?

• Should any data elements be added or deleted?

• Have we described the data elements correctly, in the definitions, coding, field lengths, and suggested data sources?

GSA is taking the somewhat unusual step of concurrently publishing the proposed FTR bulletin and proposed rule because GSA believes that the final products will be improved by comments from Federal agencies, relocation service companies, and relocation software providers.

Once GSA has issued the FTR bulletin, GSA will modify it as needed. Modifications will be based on input from the industry and/or Federal agencies and will be discussed with the Executive Relocation Steering Committee (an interagency body chartered by GSA) before implementation.

DATES: GSA requests that Federal agencies and providers of relocation services and software comment on the proposed bulletin no later than December 21, 2009. This notice is effective October 21, 2009.

FOR FURTHER INFORMATION CONTACT: Mr. Henry Maury, Office of Governmentwide Policy (M), Office of Travel, Transportation, and Asset Management (MT), General Services Administration, at (202) 208-7928 or via e-mail at henry.maury@gsa.gov. Please cite FTR Bulletin 10-XX.

Dated: June 29, 2009.
Stan Kaczmarczyk,
Acting Associate Administrator, Office of Governmentwide Policy.

[FR Doc. E9-25333 Filed 10-20-09; 8:45 am]

BILLING CODE 6820-14-P